DEPARTMENT OF VETERANS AFFAIRS

Solicitation of Nominations for Appointment to the Advisory Committee on United States Outlying Areas and Freely Associated States

ACTION: Notice.

SUMMARY: The Department of Veterans Affairs (VA) is seeking nominations of qualified candidates to be considered for appointment to the Advisory Committee on United States Outlying Areas and Freely Associated States (hereinafter referred to alternatively as FAS or “the Committee”).

DATES: Nominations for membership on the Committee must be received no later than 5:00 p.m. EST on July 31, 2023.

ADDRESSES: All nominations should be emailed to vaadvisorycmte@va.gov. Please write Nomination for FAS Membership in the subject line.

FOR FURTHER INFORMATION CONTACT: Mr. Bernard Johnson, Outreach, Transition and Economic Development (OTED), VA, via email at bernard.johnson2@va.gov or telephone at (404) 210-1680. A copy of the Committee charter can be obtained by contacting Mr. Johnson or by accessing the website: https://www.va.gov/advisory.

SUPPLEMENTARY INFORMATION: The Committee was established to provide advice to the Secretary of the Veterans Affairs (Secretary) on matters relating to covered Veterans. Covered Veteran is defined as a Veteran residing in American Samoa, Guam, Puerto Rico, The Commonwealth of the Northern Mariana Islands, The Virgin Islands of the United States, The Federated States of Micronesia, The Republic of the Marshall Islands and The Republic of Palau.

The Committee responsibilities are to:

1. Advise the Secretary on matters relating to covered Veterans, including how the Secretary may improve the programs and services of the Department to better serve such Veterans.

2. Identify for the Secretary evolving issues of relevance to covered Veterans.

3. Propose clarifications, recommendations, and solutions to address issues raised by covered Veterans.

4. Provide a forum for covered Veterans, Veterans Service Organizations (VSO) serving covered Veterans and the Department to discuss issues and proposals for changes to regulations, policies, and procedures of the Department.

5. Identify priorities for and provide advice to the Secretary on appropriate strategies for consultation with VSOs serving covered Veterans.

6. Encourage the Secretary to work with the heads of other Federal departments and agencies, and Congress, to ensure covered Veterans are provided the full benefits of their status as covered Veterans.

7. Highlight contributions of covered Veterans in the Armed Forces.

8. Conduct other duties as determined appropriate by the Secretary.

Authority: The Committee is authorized by statute, 38 U.S.C. 548 Advisory Committee on United States Outlying Areas and Freely Associated States. The Committee operates under the provisions of the Federal Advisory Committee Act (FACA), as amended, 5 U.S.C. ch. 10.

Membership Criteria: VA is requesting nominations for upcoming vacancies on the Committee. The Committee shall be comprised of not more than 15 members. The Secretary will select the Committee Chair from among the Committee members. The Committee is required to appoint at least one member to represent covered Veterans as specified in and stipulated under Supplementary Information. Further, at all times, unless an insufficient number of qualified covered Veterans are available, not fewer than half of the members shall be covered Veterans. Each appointed member must reside in an area specified in and stipulated under Supplementary Information. Additionally, the Committee shall incorporate such ex-officio members as the Secretary of State and the Secretary of the Interior shall appoint from their Departments, respectively.

Membership Terms: Individuals selected for appointment to the Committee shall be invited to serve a two-year term. At the Secretary's discretion, members may be reappointed to serve an additional term. All members will receive travel expenses and a per diem allowance in accordance with the Federal Travel Regulation for any travel made in connection with their duties as members of the Committee.

Requirements for Nomination Submission: Nominations should be type written (one nomination per nominator). Nomination package should include: (1) a letter of nomination that clearly states the name and affiliation of the nominee, the basis for the nomination (i.e., specific attributes which qualify the nominee for service in this capacity), and a statement from the nominee indicating a willingness to serve as a member of the Committee; (2) the nominee's contact information, including name, mailing address, telephone numbers, and email address; (3) the nominee's curriculum vitae, not to exceed five pages and (4) a summary of the nominee's experience and qualification relative to the membership criteria listed above. Nominations must state that the nominee is willing to serve as a member of the Committee and appears to have no conflict of interest that would preclude membership. An ethics review is conducted for each selected nominee.

The Department makes every effort to ensure that the membership of its Federal advisory committees is fairly balanced in terms of points of view represented and the Committee's function. Every effort is made to ensure that a broad representation of geographic areas, gender, racial and ethnic minority groups, and the disabled are given consideration for membership. Appointment to this Committee shall be made without discrimination because of a person's race, color, religion, sex (including gender identity, transgender status, sexual orientation, and pregnancy), national origin, age, disability, or genetic information.

Dated: June 20, 2023.
Jelessa M. Burney,
Federal Advisory Committee Management Officer.

[FR Doc. 2023-13422 Filed 6-23-23; 8:45 am]

BILLING CODE 8320-01-P